DEPARTMENT OF HEALTH AND HUMAN SERVICES (HHS)

Centers for Disease Control and Prevention (CDC)

Office for State, Tribal, Local and Territorial Support (OSTLTS)

In accordance with Presidential Executive Order No. 13175, November 6, 2000, and the Presidential Memorandum of November 5, 2009 and September 23, 2004, Consultation and Coordination with Indian Tribal Governments, CDC, OSTLTS announces the following meeting and Tribal Consultation Session:

Name: Tribal Advisory Committee (TAC) Meeting and 8th Biannual Tribal Consultation Session.

Times and Dates:

8:30 a.m.-5 p.m., January 31 and February 1, 2012 (TAC Meeting).

8:30 a.m.-4 p.m., February 2, 2012 (8th Biannual Tribal Consultation Session).

Place: The TAC Meeting will be held at the Marriott Century Center, 2000 Century Boulevard, NE., Atlanta, Georgia 30345.

The 8th Biannual Tribal Consultation Session will be held at the Centers for Disease Control and Prevention's Global Communication Center, Auditorium B, 1600 Clifton Road, NE., Atlanta, Georgia 30329.

Status: The meetings are being hosted by CDC and the Agency for Toxic Substances and Disease Registry (ATSDR) and are open to the public.

Purpose: CDC released its Tribal Consultation Policy in October of 2005 with the primary purpose of providing guidance across the agency to work effectively with American Indian/Alaska Native (AII/AN) tribes, communities, and organizations to enhance AI/AN access to CDC resources and programs. In November of 2006, an Agency Advisory Committee (the CDC/ATSDR Tribal Advisory Committee or TAC) was established to provide a complementary venue wherein tribal representatives and CDC staff will exchange information about public health issues in Indian Country, identify urgent public health needs in AI/AN communities, and discuss collaborative approaches to these issues and needs. Within the CDC Consultation Policy, it is stated that CDC will conduct government-to-government consultation with elected tribal officials or their designated representatives and confer with AI/AN community-based organizations and AI/AN urban and rural communities before taking actions and/or making decisions that affect them. Consultation is an enhanced form of communication that emphasizes trust, respect, and shared responsibility. It is an open and free exchange of information and opinion among parties that leads to mutual understanding and comprehension. CDC believes that consultation is integral to a deliberative process that results in effective collaboration and informed decision making with the ultimate goal of reaching consensus on issues. Although formal responsibility for the agency's overall government-to-government consultation activities rests within the CDC Office of the Director (OD), other CDC Center, Institute, and Office leadership shall actively participate in TAC meetings and HHS-sponsored regional and national tribal consultation sessions as frequently as possible.

Matters To Be Discussed: The TAC will convene their advisory committee meeting with discussions and presentations from various CDC senior leaders on activities and areas identified by TAC members and other tribal leaders as priority public health issues. The following sessions are currently scheduled topics for presentation and discussion during the TAC Meeting; however, discussion is not limited to these topics: the CDC annual budget report, social determinants of health, social media, health care reform, the CDC Traditional Foods Program, and opportunities at CDC for Native participation.

The 8th Biannual Tribal Consultation Session will engage CDC Senior leadership from the CDC Office of the Director and various CDC Centers, Institute, and Offices including OSTLTS, the National Center for Environmental Health and the Agency for Toxic Substances and Disease Registry (NCEH/ATSDR), the National Center for Chronic Disease Prevention and Health Promotion (NCCDPHP), as well as others. Sessions that will be held during the Tribal Consultation include the following:

• National HIV/AIDS Strategy (NHAS) for the United States: CDC, the Indian Health Service and Department of Health and Human Services' Office of the Secretary are directed to consult with tribes to develop and implement scalable approaches for effective prevention interventions targeting American Indian and Alaska Native (AI/AN) populations at greatest risk for HIV and AIDS. To assist with fulfilling this requirement, (1) a brief presentation on the epidemiology of HIV and AIDS in and current prevention strategy targeting AI/AN communities, and (2) an interactive discussion on prevention needs for the population will be provided.

• Environmental Public Health: CDC's National Center for Environmental Health (NCEH) and ATSDR, will provide a brief update and summary of activities, including NCEH/ATSDR's reorganization, ongoing environmental health (EH) activities, as well as efforts to promote engagement between Tribes, states, and local agencies.

• Traditional Foods and Sustainable Ecological Approaches to Promote Health and Prevent Type 2 Diabetes in American Indian and Alaska Native Communities: This program within the National Center for Chronic Disease Prevention and Health Promotion will be seeking input on future planning scenarios related to the current 5-year cooperative agreement with 17 tribes, which ends in 2013.

Additional opportunities will be provided during the Consultation Session for tribal testimony. Tribal Leaders are encouraged to submit written testimony by 12 a.m., EST on January 18, 2012, to Kimberly Cantrell, Deputy, Tribal Support Unit, OSTLTS, via mail to 1600 Clifton Road NE., MS K-70, Atlanta, Georgia, 30329 or email to klw6@cdc.gov. Depending on the time available, it may be necessary to limit the time of each presenter.

The agenda is subject to change as priorities dictate.

Information about TAC and CDC's Tribal Consultation Policy and previous meetings may be referenced on the following web link: http://www.cdc.gov/ostlts/tribal_public_health/announcements.html.

Contact Person for More Information: Kimberly Cantrell, Deputy, Tribal Support Unit, OSTLTS, via mail to 1600 Clifton Road, NE., MS K-70, Atlanta, Georgia 30329 or email to klw6@cdc.gov.

The Director, Management Analysis and Services Office has been delegated the authority to sign Federal Register notices pertaining to announcements of meetings and other committee management activities, for both the Centers for Disease Control and Prevention, and the Agency for Toxic Substances and Disease Registry.

Dated: January 10, 2012.
Elaine L. Baker,
Director, Management Analysis and Services Office, Centers for Disease Control and Prevention.

[FR Doc. 2012-829 Filed 1-17-12; 8:45 am]

BILLING CODE 4163-18-P